POSTAL SERVICE

39 CFR Part 111

Address Quality Census Measurement and Assessment Process

AGENCY: Postal Service™.

ACTION: Final rule.

SUMMARY: The Postal Service is revising Mailing Standards of the United States Postal Service, Domestic Mail Manual (DMM®), to include a new method of Move Update verification and assessment procedure for evaluating address quality, the “Address Quality Census Measurement and Assessment Process.” This new procedure is applicable to mailers who enter eligible letter- and flat-size pieces of First-Class Mail® and USPS Marketing Mail™ that meet the requirements for Basic or Full Service mailings. In addition, the Postal Service is extending no-fee Address Correction Service (ACS™) to mailers who enter qualifying mailpieces.

DATES: Effective January 21, 2018.

FOR FURTHER INFORMATION CONTACT: Heather Dyer, USPS Mail Entry, Phone: (207) 482-7217, Email: heather.l.dyer@usps.gov.

SUPPLEMENTARY INFORMATION: On June 30, 2017, the Postal Service filed a notice of price adjustment with the Postal Regulatory Commission (PRC) seeking approval of price and classification changes related to the Address Quality Measurement and Assessment Process, and the extension of no-fee ACS to mailers who enter qualifying mailpieces.

On August 23, 2017, the PRC approved the price and classification changes related to the Address Quality Assessment and Measurement Assessment Process, including the 0.5 percent error threshold, and Move Update assessment charge. In addition, the PRC approved extending no-fee ACS to certain Basic automation and non-automation mailpieces that are submitted by qualifying mailers. The prices approved by the PRC are available under Docket Number R2017-7 on the PRC's Web site at www.prc.gov, and these changes will take effect on January 21, 2018. This final rule adopts the conforming changes to the DMM, which were previously noticed for public comment in a proposed rule (79 FR 76930-76931) and two subsequent revisions.

The Postal Service issued its first revised proposed rule on July 6, 2016 (81 FR 43965-43971). Subsequently, on February 27, 2017, the Postal Service elected to issue a second, revised proposed rule (82 FR 11871-11878) in order to further clarify the proposal, more thoroughly respond to mailer comments, and clearly outline the ways in which the proposal had changed since the previous proposed rule. In response, the Postal Service received valuable feedback from the mailing industry. Although the substance of the Address Quality Census Measurement and Assessment Process has not changed since the proposed rule of February 27, 2017, the Postal Service has buttressed the level of detail provided on the mechanics of the Address Quality Census Measurement and Assessment Process in DMM 602.5.3, given that it now has obtained regulatory approval.

The following subheadings are intended to provide a snapshot of the forthcoming Address Quality Census Measurement and Assessment Process.

Terms

For purposes of clarification, the Postal Service provides the following definitions of several terms used in this document:

eDoc Submitter: The electronic documentation (eDoc) Submitter is determined using the Customer Registration IDentifier (CRID) number that is used to upload the eDoc to the Postal Service for processing. The eDoc submitter most often is the Mail Preparer but can also be the Mail Owner. All results of the Address Quality Measurement will be displayed on the scorecards for the eDoc Submitter and Mail Owner; however, any additional postage assessments will be presented to the eDoc submitter.

Legal Restraint: Mailers of First-Class Mail pieces who assert that they are restricted by law from incorporating Postal Service change of address (COA) information onto their mailpieces without permission from addressees; these mailers may request Postal Service approval to meet the requirements for Move Update by using the Legal Restraint alternate method. Such mailers must be able to clearly demonstrate how the use of a primary Move Update method would violate the law. For details, consult Guide to Move Update at: http://beta.postalpro.usps.com/node/1116. Pieces that meet the requirements for the Legal Restraint method will be excluded from the Mailer Scorecard and the Address Quality Census Measurement and Assessment Process, as long as the mailpieces use the appropriate CRID or Mailer IDentifier (MID).

Mailer: The term mailer within this document encompasses Mail Owners, Mail Preparers, and Mail Service Providers (MSPs).

Mailer Scorecard: This is an electronic report that contains mail quality measurements and assessments on mailings over a calendar month for Move Update, Full Service Intelligent Mail, eInduction® and Seamless Acceptance. The Scorecard is accessible through the Business Customer Gateway (BCG) and provides views for eDoc submitters, MSPs, and Mail Owners.

Non-qualifying Mailings: The non-qualifying mailpieces listed below will be excluded from the Address Quality Census Measurement and Assessment Process and the Mailer Scorecard:

• Mailpieces that are undeliverable due to an address change that is Temporary, Foreign, Moved Left No Address (MLNA), and Box Closed No Order (BCNO).

• Mailpieces that are priced as single-piece.

• Mailpieces that qualify for the Legal Restraint method.

• Mailpieces without the documentation submitted electronically.

Qualifying Mailings: An eDoc submitter is eligible for the Address Quality Census Measurement and Assessment Process when at least one of its mailings qualifies for Full Service in a calendar month. Thereafter, when mailers enter eligible mailings of letter- and flat-size pieces of First-Class Mail and USPS Marketing Mail that meet the requirements for Basic or Full Service mailings in a subsequent calendar month, the Address Quality Census Measurement and Assessment Process will be used, if the postage statement and supporting documentation are submitted electronically and a unique Intelligent Mail barcode (IMb®) is included in the eDoc.

Summary of Industry Comments and Postal Service Responses

The Postal Service appreciates all of the comments that were provided by the mailing industry in response to the revised proposal of February 27, 2017. These comments and replies can serve as frequently asked questions (FAQs) to help clarify the Address Quality Census Measurement and Assessment Process. The mailers' comments and corresponding Postal Service responses are outlined as follows:

Mailer Comment

Mailers are unable to effectively determine the success of the new measurement and assessment process, because the Postal Service has not provided sufficient information (i.e., statistical analysis) regarding how the error threshold will be set or modified. Therefore, mailers are not confident that mailings will be measured appropriately. Additionally, the determination of the assessment charge is not clearly outlined. We feel that the PRC should review both the proposed assessment charge along with the error threshold percentage and prior to the Postal Service publishing a final rule, then revisit the requirements of the proposed rule in light of the determinations made in that docket.

USPS Response

As previously stated, on August 23, 2017, the PRC approved the 0.5 percent error threshold and Move Update assessment charge under the Address Quality Census Measurement and Assessment Process. The Postal Service will implement the changes on January 21, 2018, which provides mailers nearly five months to adopt a USPS-approved Move Update method pursuant to the Move Update standard. In addition, this lead time will enable mailers to monitor COA errors via the Mailer Scorecard before the assessment process begins.

Mailer Comment

Why are mailers required to adhere to specific approved Move Update methods? If the USPS decides this is a necessary requirement, can they enact “safe harbor” provisions that protect mailers who are consistently meeting the criteria for the Address Quality Census Measurement and Assessment Process from further liability resulting from United States Postal Inspection Service (USPIS) investigations?

USPS Response

The DMM provides that certain commercial mailings must comply with the Move Update standard, regardless of whether the mail is verified for Move Update compliance presently under the Mail Evaluation Readability Lookup Instrument (MERLIN®) method, or will be subject to the Address Quality Census Measurement and Assessment Process when it takes effect on January 21, 2018. Failure to meet the Move Update standard may result in an additional postage assessment. The purpose of the Move Update standard is to correct mailpieces bearing an old address for which the Postal Service has a new address on record to help ensure that such mailpieces reach their intended recipients. Move Update requirements aim to bring down the incidence of UAA mail, which is costly to both the Postal Service and its customers.

As noted in the proposed rule of July 6, 2016, there are three USPS-approved methods for satisfying the Move Update requirement, and mailers must use one of those approved methods unless a USPS-approved alternate method is used. There are two USPS-approved alternative methods (99 Percent Accuracy and Legal Restraint), which are available under very limited circumstances for mailers who enter First-Class Mail. By contacting the USPS National Customer Support Center (NCSC), eligible mailers may apply for the following USPS-approved alternative methods:

99 Percent Accuracy: This method is available to mailers who enter First-Class Mail and demonstrate that their internal list management maintains address quality at 99 percent or greater accuracy for COAs. Mailpieces that meet the criteria for the USPS-approved 99 Percent Accuracy method are subject to the new Address Quality Census Measurement and Assessment Process.

Legal Restraint: This method is available to mailers who enter First-Class Mail and First-Class Mail Package Service pieces and demonstrate that a legal restriction prevents them from updating their customer's address without direct contact from the customer. Mailpieces that meet the conditions of the USPS-approved Legal Restraint method are excluded from the Address Quality Census Measurement and Assessment Process.

For more information related to Move Update alternative methods, see the Guide to Move Update at https://postalpro.usps.com/node/1116.

Mailer Comment

Why is the Postal Service measuring compliance and applying assessments at the eDoc submitter and CRID level rather than at the Mail Owner level? The Postal Service requires by/for and Mail Owner information with all eDoc for Full Service mailings, which means that they have the necessary information to determine the Mail Owners with whom any identified address quality errors are associated. Therefore, Mail Owners with less volume are concerned that they will be overshadowed by larger Mail Owners who dominate the MSP's volume.

USPS Response

The Postal Service will measure compliance and apply assessments at the eDoc submitter and CRID level, because it is the eDoc submitter who submits the mail to the Postal Service; this allows USPS to remain consistent with the current verification process. As previously stated in the proposed rule of February 27, 2017, the Postal Service is providing specific data to assist eDoc submitters with identifying the Mail Owners who exceed the Census error threshold and contribute to the assessment charge. These data are provided throughout the calendar month to allow eDoc submitters and Mail Owners to discuss assessments before and during the 10-day mailer review period.

Mailer Comment

It would be beneficial if USPS would provide sufficient notice to eDoc submitters who are at risk of losing free ACS so that they can take action to avoid disruption and continue to use the program.

USPS Response

Once the extension of the no-fee ACS proposal takes effect on January 21, 2018, the Postal Service will monitor Full Service compliance for these mailers on a quarterly basis. If a mailer's average Full Service volume drops below the 95 percent threshold for a given quarter, that mailer will receive a notification of its removal from receiving no-fee ACS in the next billing cycle.

Mailer Comment

How many locations, if any, will still be using MERLIN once this new Address Quality Census Measurement and Assessment Process is implemented? What is the transition plan to convert any remaining MERLIN sites?

USPS Response

As stated in the proposed rule of February 27, 2017, upon implementation of the Address Quality Census Measurement and Assessment Process, the MERLIN Move Update verification process will terminate for all sites.

Mailer Comment

When the new Address Quality Census Measurement and Assessment Process becomes effective, will USPIS, USPS, and mailers all be using the exact same, transparent Move Update compliance data for proof of Move Update compliance?

USPS Response

All mailings using postage prices that require compliance with the Move Update standard, regardless of whether they qualify for verification under the Address Quality Census Measurement and Assessment Process, may be subject to a separate assessment in the event that they do not comply with the Move Update standard pursuant to DMM 602.5. A mailer has not complied with the Move Update standard if a USPS-approved Move Update method (DMM 602.5.2) was not used to update the mailer's address list with correct addresses (unless the mail bears an alternative address format under DMM 602.3). In those circumstances, the mailer did not qualify for the Presort or Automation price claimed on the postage statement or eDoc. The separate assessment could be applied to every mailpiece in a mailing for which the mailer did not comply with the Move update standard, and would be limited to the difference between the postage previously paid (including the Move Update assessment charge, if applicable) and the applicable First-Class Mail single-piece price.

Mailer Comment

The Postal Service should further clarify how it will reconcile different results from NCOALink, MPE NCOALink, and ACS. Those systems do not always return the same results.

USPS Response

As clarified in the proposed rule of February 27, 2017, the COA data for NCOALink and ACS are from the same source, the moving customer, and are in sync. If the mailer has a record with a name or address that cannot be matched to the addressee's COA request, the update may not be provided via NCOALink but may be available through ACS. These scenarios are encompassed within the threshold.

Mailer Comment

We disagree with the 95 percent Full Service threshold required to access the free ACS data. When free ACS data for non-Full Service mail was proposed several years ago, USPS representatives promised to provide free ACS for the non-Full Service portion of all Full Service mailings. Additionally, the proposed threshold is applied to a MSP vs. the actual mail owner, which may result in a Mail Owner losing out on ACS data through no fault and no control of their own.

USPS Response

In order to further encourage the adoption of Full Service and to increase the number of mailers who receive address quality information, the Postal Service is extending no-fee ACS to mailers who enter qualifying Basic automation and non-automation mailpieces that meet the criteria of the Address Quality Census Measurement and Assessment Process and to mailers who meet a Full Service threshold of 95 percent along with other requirements. As consistent with all other program measurements, this is determined at the eDoc submitter and CRID level.

Mailer Comment

When the new process is implemented, the Federal Register indicated that all mail would be scanned through the MPE and not just randomly sampled. Therefore, if the Move Update percentage falls below the threshold, will any charges be assessed at the time of the mailing like it's currently done or will the penalties simply be assessed on the scorecard?

USPS Response

Effective January 21, 2018, mailings will no longer be assessed at the time of mailing. For qualifying mailers all mailpieces will be measured and aggregated across a calendar month, and any mailpieces exceeding the threshold will be assessed under the new Address Quality Census Measurement and Assessment Process.

Mailer Comment

When an address list is processed through a third-party, USPS-licensed software system and the USPS later determines that the mail is UAA with corresponding COA information is on file, the COA error should be charged against the software vendor. Such errors should be tracked, reported by the software vendor, and be a factor in the renewal of a software vendor's certification. This would allow mailers to make informed decisions regarding the accuracy of the software vendor and put responsibility for the software accuracy and COA errors where it belongs.

USPS Response

NCOALink Software Developers are responsible for programming NCOALink Software so that it adheres to specific USPS performance requirements for name and address matching rules. Developers are tested on a periodic bases using an NCOALink test address file similar to the one for CASS/MASS certification. The Postal Service is providing specific data to mailers to assist with identifying errors exceeding the established threshold and contributing to the assessment fee. Mailers who submit eDoc are encouraged to use this data to identify root causes for failures and related fees. The Postal Service is providing specific data to mailers to assist with identifying errors that exceed the established threshold and contribute to the assessment fee. Mailers who submit eDoc are encouraged to use this data to identify root causes for failures and related fees.

Mailer Comment

The Postal Service should provide additional detail with respect to the appeals process. The revised proposed rule references the Guide to Postage Assessments, but does not provide specific guidance on the type of information that the Postal Service would require to rescind or revise an assessment or audit result. Further certainty in this area would help Mailers, MSPs, and the Postal Service by setting clear advance guidelines as to what would be considered reasonable and acceptable evidence when appealing an assessment.

USPS Response

As in the past, the Postal Service will continue to work with mailers in relations to the appeal process, fee assessments, and to obtain supporting documentation. For example, if a mailer is using NCOALink to update addresses, a summary/acknowledgement report could be provided to show that NCOALink was performed on the mailpieces.

Address Quality Census Measurement and Assessment Process Overview

The Postal Service will replace the existing MERLIN Move Update verification process with the Address Quality Census Measurement and Assessment Process on January 21, 2018. In other words, MERLIN Move Update verification will terminate upon implementation of the Address Quality Census Measurement and Assessment Process. The new method will apply to First-Class Mail and USPS Marketing Mail letter- and flat-size pieces that meet the requirements for Basic and Full Service mailings.

Once the Address Quality Census Measurement and Assessment Process is in place, mailers will still be required to document Move Update compliance methods on a postage statement, mail.dat, or mail.xml. Documents demonstrating the method used should be available upon request by the Postal Service.

Mailers who enter Periodicals will be provided with address quality data, but Periodicals mailpieces will not be verified under the Address Quality Census Measurement and Assessment Process. The Postal Service is emphasizing that the Move Update standards in DMM 602.5 do apply to Periodicals, because the proposed rule published on February 27, 2017 (82 FR 11871-11878) inaccurately stated that Periodicals are not subject to the Move Update standard.

The Address Quality Census Measurement and Assessment Process will generate several benefits, including enhanced mailing visibility and improved mail quality metrics on all mailings entered within a calendar month, rather than sampled mailings. Under the Address Quality Census Measurement and Assessment Process, qualifying mailpieces within a calendar month will be measured according to the following process:

Mailpieces will be scanned on MPE.

Address information captured from mailpieces identified as UAA will be evaluated to determine if COA information is on file.

The address information for mailpieces matching an active COA will be sent electronically to NCSC.

NCSC will forward COA information to the Address Quality Census Measurement and Assessment Process for evaluation.

Move Update validations will be performed by comparing the MID + Serial Number of the IMb from the COA-related mailpiece data. If the COA is between 95 days and 18 months old, and the address has not been updated, then a COA error for the associated IMb will be logged and allocated under the CRID of the eDoc submitter.

All qualifying mailpieces entered by an eDoc submitter in a calendar month are subject to the proposed error threshold for the Address Quality Census Measurement and Assessment Process. The error threshold is 0.5 percent.

The Move Update Assessment Charge is assessed by Postal Service to the relevant eDoc submitter at the CRID level for each mailpiece with a COA percentage that exceeds the error threshold.

The data will be collected and reported on the Mailer Scorecard under the eDoc submitter CRID.

Move Update Assessment Charge

When the ratio of qualifying mailpieces with COA errors to total qualifying mailpieces submitted in the calendar month by the eDoc submitter exceeds the Address Quality Census Measurement and Assessment Process error threshold, the Move Update assessment charge will apply to the mailpieces with COA errors above the threshold.

Mailer Scorecard

The Mailer Scorecard is currently available to mailers, and provides data that allow mailers to gauge address quality on their mailpieces. Mailers will be charged only for mailpieces above the errors threshold.

Criteria

Mailers will be verified under the Address Quality Census Measurement and Assessment Process when they:

Have submitted any mailpieces as Full Service in the current month or any previous month.

Use a unique Basic or Full Service IMb on mailings of letter- and flat-size pieces for First-Class Mail and USPS Marketing Mail.

Use eDoc to submit mailing information.

Specifications

The Postal Service has retained the proposed specifications for assessing address quality. Once the Postal Service implements the proposed process, address quality will be measured as follows:

Analysis will be performed on all pieces in the mailing, rather than on a sample.

The assessment will be determined by the number of COA errors in a calendar month, divided by the total number of pieces mailed that were subject to analysis. The resulting percentage will be compared to the Address Quality Census Measurement and Assessment Process error threshold of 0.5 percent.

There are a number of exclusions to the measurement and assessment process. Generally, mailpieces with addresses that have the following COA characteristics will not be included in the assessment: Temporary moves, MLNA, BCNO, and COA data for foreign addresses.

Mailpieces authorized for the Legal Restraint alternate Move Update method (See Guide to Move Update) will be excluded.

Mailpiece Results

Once qualifying mailings are processed on MPE, the data from mailpieces will be reconciled with eDoc. These results will be available on the BCG and displayed on the Electronic Verification tab of the Mailer Scorecard, which will be easily accessible at https://gateway.usps.com/eAdmin/view/signin. Mailers will be able to review the Mailer Scorecard and corresponding detailed reports to identify any anomalies or issues.

To resolve Mailer Scorecard irregularities, mailers should contact the PostalOne! Help Desk at 800-522-9085 or their local Business Mail Entry Unit (BMEU).

Address Change Service and Correction Notifications

The Postal Service will extend no-fee Full Service ACS to qualifying Basic automation and non-automation mailpieces for mailers who enter at least 95 percent of their mail as Full Service in a calendar month.

The Basic mailpieces must be prepared as follows:

Bear a unique IMb printed on the mailpiece.

Include a Full Service ACS or OneCode ACS® STID in the IMb.

Include the unique IMb in eDoc.

Be sent by an eDoc submitter providing accurate By/For identification in eDoc.

As clarification, if mailers meet the 95 percent threshold during a calendar month, they will be enrolled to receive free Full Service ACS for all Basic automation and non-automation mailpieces in the following month. The Postal Service will monitor Full Service compliance for these mailers on a quarterly basis. If an enrolled mailer's average Full Service volume dropped below the 95 percent threshold for a given quarter, that mailer will receive notification of its removal from receiving free ACS in the next billing cycle. If the 95 percent threshold is met in a subsequent month, the removed mailer will be re-enrolled to receive free Full Service ACS for Basic automation and non-automation mailpieces for the next billing cycle.

Address change information will be provided through Full Service ACS feedback to the Mail Owner identified in eDoc or its delegate. ACS information will continue to be distributed through SingleSource to the Mail Owner identified in the IMb or its delegate.

Regarding Periodicals, mailers who enter mailings of Full Service Periodicals will no longer be required to receive and pay for manual address corrections when a Full Service ACS STID is used. However, these mailers may elect to receive and pay for manual address correction notifications by including the appropriate STID within the IMb.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

507 Mailer Services

1.0 Treatment of Mail

* * * * *

1.5 Treatment for Ancillary Services by Class of Mail

* * * * *

1.5.2 Periodicals

* * * * *

[Revise 507.1.5.2c by changing the last word of the sentence to “received” as follows:]

c. Address correction service is mandatory for all Periodicals publications, and the address correction service fee must be paid for each notice received.

* * * * *

4.0 Address Correction Services

* * * * *

4.2 Address Change Service (ACS)

* * * * *

4.2.2 Service Options

[Revise 507.4.2.2 by modifying the introductory sentence and adding a new item “d” as follows:]

ACS offers four levels of service, as follows:

* * * * *

d. A Full Service option available to mailings of First-Class Mail automation cards, letters, and flats; USPS Marketing Mail automation letters and flats; USPS Marketing Mail Carrier Route, High Density, and Saturation letters; Periodicals Outside County barcoded or Carrier Route letters and flats; Periodicals In-County automation or Carrier Route letters and flats; and Bound Printed Matter Presorted, non-DDU barcoded flats. Mailers who present at least 95 percent of their eligible First-Class Mail and USPS Marketing Mail volume as Full Service in a calendar month would receive electronic address correction notices for their qualifying Basic automation and non-automation First-Class Mail and USPS Marketing Mail pieces, at the address correction fee for pieces eligible for the Full Service Intelligent Mail option as described in DMM 705.23.0 for future billing cycles. The Basic First-Class Mail and USPS Marketing Mail mailpieces must:

1. Bear a unique IMb printed on the mailpiece;

2. Include a Full Service or OneCode ACS STID in the IMb;

3. Include the unique IMb in eDoc;

4. Be sent by an eDoc submitter providing accurate Mail Owner identification in eDoc, and;

5. Be sent by an eDoc submitter maintaining 95 percent Full Service compliance to remain eligible for this service and undergo periodic Postal Service re-evaluation.

* * * * *

4.2.8 Address Correction Service Fee

[Revise 507.4.2.8 by deleting the old language and replacing with new language as follows:]

ACS fees would be assessed as follows:

a. The applicable fee for address correction is charged for each separate notification of address correction or the reason for nondelivery provided, unless an exception applies.

b. Once the ACS fee charges have been invoiced, any unpaid fees for the prior invoice cycle (month) would be assessed an annual administrative fee of 10 percent for the overdue amount.

c. Mailers who present at least 95 percent of their eligible First-Class Mail and USPS Marketing Mail volume as Full Service in a calendar month would receive electronic address correction notices for their qualifying Basic automation and non-automation First-Class Mail and USPS Marketing Mail mailpieces, as specified in 4.2.2. The electronic address correction notices are charged at the applicable Full Service address correction fee for all future billing cycles.

* * * * *

600 Basic Mailing Standards for All Mailing Services

* * * * *

602 Addressing

* * * * *

5.0 Move Update Standards

* * * * *

[Revise 602.5.3 by deleting former contents and replacing with new title and contents as follows:]

5.3 Move Update Verification

Mailers who submit any Full Service volume in a calendar month will be verified pursuant to the Address Quality Census Measurement and Assessment Process beginning in the next calendar month. First-Class Mail and USPS Marketing Mail letter and flat-size mailpieces with addresses that have not been updated in accordance with the Move Update Standard will be subject to the Move Update assessment charge, if submitted via eDoc with unique Basic or Full Service IMbs. The Move Update assessment charge will be assessed if:

a. The percent of all qualifying mailpieces submitted in a calendar month that have a COA error is greater than the 0.5 percent error threshold, as determined by an analysis of the data captured by mail processing equipment.

b. Each mailpiece with addresses containing COA errors in excess of the error threshold will be assessed the Move Update assessment charge.

c. Supporting details are described in Publication 685, Publication for Streamlined Mail Acceptance for Letters and Flats, available at www.postalpro.usps.com.

[Revise 602.5.4 as follows:]

5.4 Mailer Certification

The mailer's signature on the postage statement or electronic confirmation during eDoc submission certifies that the Move Update standard has been met for the address records including each address in the corresponding mailing presented to the USPS.

* * * * *

700 Special Standards

* * * * *

705 Advanced Preparation and Special Postage Payment Systems

* * * * *

23.0 Full Service Automation Option

* * * * *

23.5 Additional Standards

* * * * *

23.5.2 Address Correction Notices

* * * * *

[Revise 705.23.5.2a as follows:]

a. Address correction notices would be provided at the applicable Full Service address correction fee for letters and flats eligible for the Full Service option, except for USPS Marketing Mail ECR flats, BPM flats dropshipped to DDUs, or BPM carrier route flats. Mailers who present at least 95 percent of their eligible First-Class Mail and USPS Marketing Mail volume as Full Service in a calendar month would receive electronic address correction notices for their qualifying Basic automation and non-automation First-Class Mail and USPS Marketing mailpieces charged at the applicable Full Service address correction fee for future billing cycles. The Basic automation and non-automation First-Class Mail and USPS Marketing Mail mailpieces must:

1. Bear a unique IMb printed on the mailpiece.

2. Include a Full Service or OneCode ACS STID in the IMb.

3. Include the unique IMb in eDoc.

4. Be sent by an eDoc submitter providing accurate Mail Owner identification in eDoc.

5. Be sent by an eDoc submitter maintaining 95 percent Full Service compliance to remain eligible for this service and undergo periodic USPS re-evaluation.

* * * * *

We will publish an appropriate amendment to 39 CFR part 111 to reflect these changes.

Stanley F. Mires,
Attorney, Federal Compliance.

[FR Doc. 2017-22962 Filed 10-23-17; 8:45 am]

BILLING CODE 7710-12-P